ENVIRONMENTAL PROTECTION AGENCY

[EPA-HQ-OECA-2012-0688; FRL-9995-72-OMS]

Information Collection Request Submitted to OMB for Review and Approval; Comment Request; NESHAP for Plastic Parts and Products Surface Coating (Renewal)

AGENCY: Environmental Protection Agency (EPA).

ACTION: Notice.

SUMMARY: The Environmental Protection Agency (EPA) has submitted an information collection request (ICR), NESHAP for Plastic Parts and Products Surface Coating (EPA ICR Number 2044.07, OMB Control Number 2060-0537), to the Office of Management and Budget (OMB) for review and approval in accordance with the Paperwork Reduction Act. This is a proposed extension of the ICR, which is currently approved through August 31, 2019. Public comments were previously requested, via the Federal Register, on May 30, 2018 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before July 26, 2019.

ADDRESSES: Submit your comments, referencing Docket ID Number EPA-HQ-OECA-2012-0688, to: (1) EPA online using www.regulations.gov (our preferred method), or by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person at the EPA Docket Center, WJC West, Room 3334, 1301 Constitution Ave. NW, Washington, DC. The telephone number for the Docket Center is 202-566-1744. For additional information about EPA's public docket, visit: http://www.epa.gov/dockets.

Abstract: The National Emission Standards for Hazardous Air Pollutants (NESHAP) for Plastic Parts and Products Surface Coating (40 CFR part 63, subpart PPPP) were proposed on: December 4, 2002; promulgated on April 19, 2004; and amended on April 24, 2007. These regulations apply to both existing and new facilities that perform surface coating of plastic parts and products, and that use at least 100 gallons of HAP-containing coatings annually, and where the potential to emit any single hazardous air pollutant (HAP) is greater than or equal to 10 tons per year, or where the potential to emit any combination of HAPS is greater than or equal to 25 tons per year. New facilities include those that commenced construction, modification or reconstruction after the date of proposal. This information is being collected to assure compliance with 40 CFR part 63, subpart PPPP.

In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to NESHAP.

Form Numbers: None.

Respondents/affected entities: Existing and new facilities that: Perform surface coating of plastic parts and products and that use at least 100 gallons of HAP-containing coatings annually, and where the potential to emit any single hazardous air pollutant (HAP) is greater than or equal to 10 tons per year, or where the potential to emit any combination of HAPS is greater than or equal to 25 tons per year.

Respondent's obligation to respond: Mandatory (40 CFR part 63, subpart PPPP).

Estimated number of respondents: 223 (total).

Frequency of response: Initially and semiannually.

Total estimated burden: 86,400 hours (per year). Burden is defined at 5 CFR 1320.3(b).

Total estimated cost: $9,910,000 (per year), which includes $66,900 in annualized capital/startup and/or operation & maintenance costs.

Changes in the estimates: There is an adjustment decrease in the total estimated burden as currently identified in the OMB Inventory of Approved Burdens. This decrease is not due to any program changes. The adjustment decrease in burden from the most recently-approved ICR is due to a decrease in the number of existing major sources subject to this rule. The EPA's records indicate that there are currently 223 major sources subject to this NESHAP; the previous estimate of 836 major sources was based on the Final Rule for this NESHAP in 2004. The revised estimate is also supported by preliminary data collected for the NESHAP Risk and Technology Review. This decrease in the estimated number of sources results in decreases in the respondent labor hours, total O&M costs, and number of responses.

Courtney Kerwin,
Director, Regulatory Support Division.

[FR Doc. 2019-13558 Filed 6-25-19; 8:45 am]

BILLING CODE 6560-50-P